DEPARTMENT OF HEALTH AND HUMAN SERVICES

Administration for Children and Families

Submission for OMB Review; Comment Request

Title: Administration for Native Americans Annual Data Report.

OMB No.: 0970-0475: Renewal.

Description: The Administration for Native Americans is seeking renewal of the Annual Data Report (ADR). The ADR is an annual report to be completed at the end of every budget period of an ANA discretionary grant. The purpose of this information collection is to annually collect grantee data on outcome indicators, youth and elder engagement, partnerships, community participation, benefits and lessons learned. At the end of the project period, ANA will also collect data on beneficiaries, the overall achievement of the project goal, and project sustainability.

This information collection will be housed in the On-Line Data Collection (OLDC) with in GrantSolutions.gov.

Respondents: Tribal Government, Native non-profit organizations, Tribal Colleges & Universities receiving ANA discretionary funding.

Annual Burden Estimates
Instrument | Number of respondents | Number of responses per respondent | Average burden hours per response | Total burden hours
ADR | 275 | 1 | 1 | 275

Estimated Total Annual Burden Hours: 275.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV; Attn: Desk Officer for the Administration for Children and Families.

Robert A. Sargis,
Reports Clearance Officer.

[FR Doc. 2018-18495 Filed 8-24-18; 8:45 am]

BILLING CODE 4184-34-P